DEPARTMENT OF COMMERCE

National Oceanic and Atmospheric Administration

15 CFR Part 922

[Docket No. 060707188-6188-01]

RIN 0648-AT18

Consideration of Marine Reserves and Marine Conservation Areas Within the Channel Islands National Marine Sanctuary

AGENCY: National Marine Sanctuary Program (NMSP), National Ocean Service (NOS), National Oceanic and Atmospheric Administration (NOAA), Department of Commerce (DOC).

ACTION: Proposed rule; correction.

SUMMARY: On August 11, 2006, NOAA published a proposed rule in the Federal Register to establish marine reserves and marine conservation areas within the Channel Islands National Marine Sanctuary (Sanctuary). The preamble of that rule contained inconsistent or inaccurate figures denoting the current size of the Sanctuary that need to be corrected. This document corrects and clarifies those figures.

DATES: The deadline for submitting comments on the proposed rule and hearing dates remains October 10, 2006.

ADDRESSES: Copies of the draft environmental impact statement, regulatory impact review, and initial regulatory flexibility analyses may still be obtained from NOAA's Channel Islands National Marine Sanctuary Web site at http://channelislands.noaa.gov/ or by writing to Sean Hastings, Resource Protection Coordinator, Channel Islands National Marine Sanctuary, 113 Harbor Way, Suite 150, Santa Barbara, CA 93109; e-mail: Sean.Hastings@noaa.gov.

FOR FURTHER INFORMATION CONTACT: Sean Hastings, (805) 884-1472; e-mail: Sean.Hastings@noaa.gov.

SUPPLEMENTARY INFORMATION:

Need for Correction

On August 11, 2006 (71 FR 46134), NOAA published a proposed rule to establish a network of marine zones within the Sanctuary. The proposed rule contained three inconsistent or inaccurate figures denoting the current size of the Sanctuary and the increase in total area of the Sanctuary that would result from the proposed rule. These descriptions appear in the preamble to that proposed rule and do not affect the substance of the regulatory text or modify NOAA's proposal in any substantive way.

The first reference that needs to be corrected appears in the SUMMARY section of the proposed rule (page 46135; first column), where the current size of the Sanctuary is cited as “approximately 1268 square nautical miles.” When NOAA issued final regulations for the Sanctuary on October 2, 1980, the area of the Sanctuary was estimated to be approximately 1252.5 square nautical miles (45 FR 65198). NOAA updated the estimate to approximately 1243 square nautical miles using more accurate information and the North American Datum 1983. In a separate proposed rule issued earlier this year, NOAA proposed, among other things, to update the legal description of the Sanctuary boundary to reflect this change (71 FR 29096; May 19, 2006). This update does not constitute a change in the geographic area of the Sanctuary, but rather an improved estimate of its size. For these reasons, the current size of the Sanctuary should be cited as “approximately 1243 square nautical miles.”

The second reference that needs to be clarified appears in the SUPPLEMENTARY INFORMATION section of the proposed rule on page 46135 (second column), where NOAA cites “1,252.5 square nautical miles” as the current size of the Sanctuary. For the reason discussed above, the proposed rule should have cited the current size of the Sanctuary as “approximately 1243 square nautical miles.”

The third reference that needs to be clarified appears in the SUPPLEMENTARY INFORMATION section of the proposed rule on page 46138 (third column), where NOAA cites “1252 square nautical miles” as the current size of the Sanctuary and “16 square nautical miles” as the increase in area that would result from the proposed rule. For the reasons described above, the proposed rule should have cited the current size of the Sanctuary as “approximately 1243 square nautical miles.” Similarly, the increase in the size of the Sanctuary that would result from the proposed rule should be cited as “approximately 25 square nautical miles” instead of “16 square nautical miles.” This increase in the difference between the proposed Sanctuary size and the current Sanctuary size is a product of the smaller size estimate of 1,243 square nautical miles and does not result from an increase in the proposed area that would be added to the Sanctuary by the proposed rule.

The draft environmental impact statement associated with the proposed rule, entitled “Draft Environmental Impact Statement for the Consideration of Marine Reserves and Marine Conservation Areas” (71 FR 46220; August 11, 2006), also uses both “1,243” and “1252” square nautical miles to approximate the current size of the Sanctuary. As discussed above, when discussing the current size of the Sanctuary in general terms, those references should be “approximately 1243 square nautical miles.” Similarly, references to the difference between the current size of the Sanctuary and its expanded size under the proposed rule should be cited as “approximately 25 square nautical miles.”

Dated: September 26, 2006.
Elizabeth R. Scheffler,
Assistant Administrator for Management, Ocean Services and Coastal Zone Management.

[FR Doc. 06-8491 Filed 10-4-06; 8:45 am]

BILLING CODE 3510-NK-M